DEPARTMENT OF THE INTERIOR

Bureau of Reclamation

[RR02054000, 19XR0687NA, RX.18527901.3000000]

Central Valley Project Improvement Act Water Management Plans

AGENCY: Bureau of Reclamation, Interior.

ACTION: Notice of availability.

SUMMARY: The Bureau of Reclamation has made available to the public the Water Management Plans for 4 entities. For the purpose of this announcement, Water Management Plans (Plans) are considered the same as Water Conservation Plans. Reclamation is publishing this notice in order to allow the public an opportunity to review the Plans and comment on the preliminary determinations.

DATES: Submit written comments on the preliminary determinations on or before November 21, 2019.

ADDRESSES: Send written comments to Ms. Charlene Stemen, Bureau of Reclamation, 2800 Cottage Way, CGB-400, Sacramento, CA 95825; or via email at cstemen@usbr.gov.

FOR FURTHER INFORMATION CONTACT: To be placed on a mailing list for any subsequent information, please contact Ms. Charlene Stemen at cstemen@usbr.gov, or at 916-978-5218 (TDD 978-5608).

SUPPLEMENTARY INFORMATION: Section 3405(e) of the Central Valley Project Improvement Act (Title 34 Pub. L. 102-575), requires the Secretary of the Interior to, amongst other things, “develop criteria for evaluating the adequacy of all water conservation plans” developed by certain contractors. According to Section 3405(e)(1), these criteria must promote, “the highest level of water use efficiency reasonably achievable by project contractors using best available cost-effective technology and best management practices.” In accordance with this legislative mandate, the Bureau of Reclamation developed and published the Criteria for Evaluating Water Management Plans (Criteria). Each of the 4 entities listed below developed a Plan that Reclamation evaluated and preliminarily determined meets the requirements of the Criteria. The following Plans are available for review:

• City of Tracy.

• Clear Creek Community Services District.

• Sacramento County Water Agency.

• Westlands Water District.

We invite the public to comment on our preliminary (i.e., draft) determination of Plan adequacy.

A copy of these Plans will be available for review at Reclamation's Mid-Pacific Regional Office, 2800 Cottage Way, CGB-410, Sacramento, CA 95825. If you wish to review a copy of these Plans or to receive an electronic copy via email, please contact Ms. Stemen or visit https://www.usbr.gov/mp/watershare/wcp.html.

Dated: October 16, 2019.
Richard Woodley,
Regional Resources Manager, Mid-Pacific Region, Bureau of Reclamation.

[FR Doc. 2019-22958 Filed 10-21-19; 8:45 am]

BILLING CODE 4332-90-P